DEPARTMENT OF ENERGY

Federal Energy Regulatory Commission

[Project No. 1490-046]

Brazos River Authority; Notice of Amendment of License and Soliciting Comments, Motions To Intervene, and Protests

February 5, 2008.

Take notice that the following application has been filed with the Commission and is available for public inspection:

a. Application Type: Approval of Contract for Use of Project Facilities and for the Sale of Project Power for a Period Extending Beyond the Term of License.

b. Project No: 1490-046.

c. Date Filed: December 6, 2007, supplemented January 22, 2008.

d. Applicant: Brazos River Authority (the Authority).

e. Name of Project: Morris Sheppard Dam Project.

f. Location: The project is located on the Brazos River, in Palo, Pinto, Young, and Stephans Counties, Texas.

g. Filed Pursuant to: Federal Power Act, 16 U.S.C. 815 (2000).

h. Applicant Contact: John A. Whittaker, IV, Winston & Strawn, LLP, 1700 K Street, NW., Washington, DC 20006-3817, (202) 282-5766.

i. FERC Contact: Hillary Berlin at (202) 502-8915, or e-mail Hillary.Berlin@FERC.gov.

j. Deadline for filing comments and or motions: February 26, 2008.

All documents (original and eight copies) should be filed with: Office of the Secretary, Federal Energy Regulatory Commission, 888 First Street, NE., Washington DC 20426. Comments, protests and interventions may be filed electronically via the Internet in lieu of paper. See, 18 CFR 385.2001(a)(1)(iii) and the instructions on the Commission's Web site at http://www.ferc.gov under the “e-Filing” link. Please include the project number (P-1490-046) on any comments or motions filed.

k. Description of Application: The Authority filed a request for approval of a Facility Use Agreement (the Agreement) between the Authority and the Brazos Electric Power Cooperative, Inc. (the Cooperative). The Authority seeks approval of the Agreement under the requirements of standard Article 5 of the Authority's license issued September 14, 1989 (48 FERC ¶ 62,190) and section 22 of the Federal Power Act (FPA), 16 U.S.C. 815 (2000), as a contract for the sale of project power extending beyond the term of the project license. The license expires on August 31, 2019.

Under license Article 5, the Authority is required to obtain and retain title in fee in, or the right to use in perpetuity, project property necessary to fulfill project purposes, and the disposal of project property rights once acquired is subject to Commission approval. Section 22 of the FPA provides that contracts for the sale and delivery of power for periods extending beyond the termination date of a license may be entered into upon the joint approval of the Commission and the appropriate state public service Commission or other similar authority in the state in which the sale or delivery of power is made.

Under the Agreement, the Cooperative would be given the right and the responsibility, at its own cost, to operate, maintain, and repair the project's hydroelectric generating facilities and to use the project's power, subject to certain restrictions and rights reserved to the Authority. In exchange, the Cooperative would make annual payments to the Authority and would reimburse the Authority for costs incurred by the Authority: (1) Related to compliance and administration of the project's license and compliance with other regulatory requirements with respect to the project's generating facilities; and (2) associated with the Authority obtaining a new license for the project, to the extent related to the project's generating facilities. The Authority would retain ownership of all project facilities throughout the 30-year term of the Agreement, which is subject to a 10-year extension at the option of the Cooperative. The Agreement would supersede and replace the current contractual arrangements between the Authority and the Cooperative, which pertain to project operation and maintenance and the sale of project power.

l. Location of Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

o. Any filings must bear in all capital letters the title “COMMENTS”, “PROTEST”, OR “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E8-3549 Filed 2-25-08; 8:45 am]

BILLING CODE 6717-01-P